DEPARTMENT OF TRANSPORTATION

Federal Aviation Administration

14 CFR Part 71

Docket No. FAA-2015-1089; Airspace Docket No. 15-ANM-11

Amendment of Class E Airspace; Douglas, WY

AGENCY: Federal Aviation Administration (FAA), DOT.

ACTION: Final rule.

SUMMARY: This action modifies Class E airspace at Converse County Airport, Douglas, WY, to accommodate new Standard Instrument Approach Procedures (SIAPs) at Converse County Airport, and addresses an inaccuracy identified by FAA Airspace Policy and Support that V-19, which is no longer located in the area, is used in the legal description of the airspace. The geographic coordinates of the airport also are adjusted. The FAA is taking this action to enhance the safety and management of Instrument Flight Rules (IFR) operations at the airport.

DATES: Effective 0901 UTC, December 10, 2015. The Director of the Federal Register approves this incorporation by reference action under title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy and ATC Regulations Group, Federal Aviation Administration, 800 Independence Avenue SW., Washington, DC 29591; telephone: 202-267-8783. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Converse County Airport, Douglas, WY.

History

On June 23, 2015, the FAA published in the Federal Register a notice of proposed rulemaking (NPRM) to modify Class E airspace extending upward from 700 feet above the surface at Converse County Airport, Douglas, WY (80 FR 35889) and amend the geographic coordinates of the airport and the legal description for that airspace extending from 1,200 feet above the surface, utilizing latitudinal and longitudinal reference points. Interested parties were invited to participate in this rulemaking effort by submitting written comments on the proposal to the FAA. No comments were received.

Class E airspace designations are published in paragraph 6005 of FAA Order 7400.9Z, dated August 6, 2015, and effective September 15, 2015, which is incorporated by reference in 14 CFR 71.1. The Class E airspace designations listed in this document will be published subsequently in the Order.

Availability and Summary of Documents for Incorporation by Reference

This document amends FAA Order 7400.9Z, airspace Designations and Reporting Points, dated August 6, 2015, and effective September 15, 2015. FAA Order 7400.9Z is publicly available as listed in the ADDRESSES section of this final rule. FAA Order 7400.9Z lists Class A, B, C, D, and E airspace areas, air traffic service routes, and reporting points.

The Rule

This amendment to Title 14, Code of Federal Regulations (14 CFR) part 71 modifies Class E airspace extending upward from 700 feet above the surface at Converse County Airport, Douglas, WY. New Standard Instrument Approach Procedures are necessary for the safety and management of IFR operations at the airport. Class E airspace extending upward from 700 feet above the surface is modified to within a 4-mile radius of Converse County Airport, with a segment extending from the 4-mile radius to the 7-mile radius east to southwest of the airport, and a segment extending from the 4-mile radius to 7 miles northwest of the airport. The geographic coordinates of the airport are updated to coincide with the FAA's aeronautical database. The lateral boundary for that airspace extending from 1,200 feet above the surface is defined utilizing latitudinal and longitudinal reference points instead of Federal airway V-19, and does not change the lateral boundaries or operating requirements of the 1,200 foot airspace. This action enhances the safety and management of controlled airspace within the NAS.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 6005 Class E Airspace Areas Extending Upward From 700 Feet or More Above the Surface of the Earth

* * * * *

ANM WY E5 Douglas, WY [Modified]

Converse County Airport, WY

(Lat. 42°47′50″ N., long. 105°23′09″ W.)

That airspace extending upward from 700 feet above the surface within a 4-mile radius of Converse County Airport beginning at lat. 42°50′30″ N., long. 105°27′11″ W., clockwise along the 4-mile radius of the airport to the 065° bearing from the airport, and that airspace within a 7-mile radius of the airport from the 065° bearing from the airport clockwise to the 226° bearing, thence northeast to lat. 42°48′41″ N., long. 105°28′28″ W., and that airspace 1 mile either side of the 297° bearing from airport extending from the 4-mile radius to 7 miles northwest of the airport, thence to the point of beginning That airspace extending upward from 1,200 feet above the surface bounded by a line beginning at lat. 43°05′27″ N., long. 106°16′37″ W.; to lat. 43°35′23″ N., long. 104°30′02″ W.; to lat. 43°00′00″ N., long. 104°30′02″ W.; to lat. 43°00′00″ N., long. 104°03′16″ W.; to lat. 41°53′15″ N., long. 104°03′15″ W.; to lat. 41°51′54″ N., long. 105°17′18″ W.; thence to the point of beginning.

* * * * *

Issued in Seattle, Washington, on September 9, 2015.
Christopher Ramirez,
Manager, Operations Support Group, Western Service Center.

[FR Doc. 2015-23993 Filed 9-23-15; 8:45 am]

BILLING CODE 4910-13-P